DEPARTMENT OF ENERGY

Federal Energy Regulatory Commission

[Project No. 2195-011]

Clackamas River Hydroelectric Project; Portland General Electric Company Clackamas County, OR; Notice of Extension of Comment Date

July 26, 2006.

The public comment period for the Clackamas River Hydroelectric Project Draft Environmental Impact Statement (DEIS) issued June 16, 2006, by the Commission has been extended until 5 p.m. Eastern Time August 22, 2006.

Magalie R. Salas,
Secretary.

[FR Doc. E6-12379 Filed 8-1-06; 8:45 am]

BILLING CODE 6717-01-P